DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Rural Health Network Development Planning Performance Improvement and Measurement System Database

OMB No. 0915-xxxx—NEW

Abstract: The purpose of the Rural Health Network Development Planning (Network Planning) program, authorized by Section 330A(f) of the Public Health Service Act, 42 U.S.C. 254c(f), as amended by section 201, Public Law 107-251 of the Health Care Safety Net Amendments of 2002, is to assist in the development of an integrated healthcare network, if the network participants do not have a history of collaborative efforts. The Network Planning program helps to promote the planning and development of health care networks in order to: (i) Achieve efficiencies; (ii) expand access to, coordinate, and improve the quality of essential health care services; and (iii) strengthen the rural health care system as a whole. This program brings together key parts of a rural health care delivery system, particularly those entities that may not have collaborated in the past under a formal relationship, to work together to establish and improve local capacity and coordination of care. This grant program supports 1 year of planning with the primary goal of helping networks create a foundation for their infrastructure and focusing member efforts to address important regional or local community health needs.

Need and Proposed Use of the Information: Performance measures were developed to provide routine data for the program and to enable HRSA to aggregate program data. These measures cover the principal topic areas of interest to the Office of Rural Health Policy, including: (a) Network infrastructure; (b) network collaboration; (c) sustainability; and (d) network assessment. Several measures will be used for this program.

Summary of Prior Comments and Agency Response

A 60-day Federal Register Notice was published in the Federal Register on December 5, 2013, Vol. 78, No. 234; pp. 73200-01. There were no comments.

Likely Respondents: The respondents would be Rural Health Network Development Planning grant recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Health Network Development Planning Program Performance Improvement and Measurement System Measures | 21 | 1 | 21 | 1 | 21
Total | 21 | 1 | 21 | 1 | 21

Dated: March 27, 2014.
Jackie Painter,
Deputy Director, Division of Policy and Information Coordination.

[FR Doc. 2014-07508 Filed 4-3-14; 8:45 am]

BILLING CODE 4165-15-P